DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in Meters (MSL) Modified | Communities affected
Saline County, Illinois, and Incorporated Areas
Docket No.: FEMA-B-1134
Bankston Fork (backwater effects from Ohio River) | At the confluence with Middle Fork Saline River | +367 | City of Harrisburg, Unincorporated Areas of Saline County.
| Approximately 1,150 feet upstream of St. Mary's Drive | +367
Brier Creek | At the confluence with Middle Fork Saline River | +367 | Unincorporated Areas of Saline County.
| Approximately 0.53 mile upstream of Illinois Route 34 | +367
Cockerel Branch (backwater effects from Ohio River) | Approximately 1.1 miles downstream of County Highway 13 | +367 | Unincorporated Areas of Saline County.
| At Thaxton Road | +367
Eldorado Tributary | At the confluence with Middle Fork Saline River | +367 | Unincorporated Areas of Saline County.
| Approximately 1,545 feet downstream of Sutton Road | +367
Middle Fork Saline River (backwater effects from Ohio River) | At the confluence with South Fork Saline River | +367 | City of Harrisburg, Unincorporated Areas of Saline County, Village of Muddy.
| Approximately 2.4 miles upstream of Illinois Route 34 | +367
Saline River (backwater effects from Ohio River) | Approximately 3.5 miles downstream of Rocky Branch Road | +367 | Unincorporated Areas of Saline County.
| At the confluence of Middle Fork and South Fork Saline River | +367
South Fork Saline River (backwater effects from Ohio River) | At the confluence with Middle Fork Saline River | +367 | Unincorporated Areas of Saline County.
| Approximately 2.0 miles downstream of Illinois Route 34 | +367
* National Geodetic Vertical Datum.
+ North American Vertical Datum.
# Depth in feet above ground.
‸ Mean Sea Level, rounded to the nearest 0.1 meter.
ADDRESSES
City of Harrisburg
Maps are available for inspection at City Hall, 110 East Locust Street, Harrisburg, IL 62946.
Village of Muddy
Maps are available for inspection at the Village Hall, 60 Maple Street, Muddy, IL 62965.
Unincorporated Areas of Saline County
Maps are available for inspection at the Saline County Courthouse, 10 East Poplar Street, Harrisburg, IL 62946.
Calvert County, Maryland, and Incorporated Areas
Docket No.: FEMA-B-1178
Hall Creek | Approximately 1.2 miles downstream of Southern Maryland Boulevard | +7 | Unincorporated Areas of Calvert County.
| Approximately 285 feet upstream of Chesapeake Beach Road | +67
* National Geodetic Vertical Datum.
+ North American Vertical Datum.
# Depth in feet above ground.
‸ Mean Sea Level, rounded to the nearest 0.1 meter.
ADDRESSES
Unincorporated Areas of Calvert County
Maps are available for inspection at the Calvert County Services Plaza, 150 Main Street, Prince Frederick, MD 20678.
Ottawa County, Michigan (All Jurisdictions)
Docket No.: FEMA-B-1089
Alward Drain | At the confluence with Rush Creek | +615 | Charter Township of Georgetown, City of Hudsonville.
| Approximately 80 feet upstream of 36th Avenue | +623
Bareman Drain | At the confluence with County Drain No. 15 & 17 | +615 | Charter Township of Holland.
| Approximately 80 feet upstream of Quincy Street | +633
Bark Creek | At the confluence with Bruces Bayou | +590 | Township of Crockery.
| Approximately 0.6 mile downstream of Cleveland Street | +590
Bass Creek | At the confluence with the Grand River | +595 | Charter Township of Allendale.
| Approximately 0.5 mile upstream of Bass Drive | +595
Bliss Creek Intercounty Drain | Approximately 975 feet downstream of Port Sheldon Street | +608 | Charter Township of Georgetown.
| At the confluence with Knight Intercounty Drain | +646
Bliss Creek Intercounty Drain Diversion Channel | At the downstream side of Stonehenge Drive | +628 | Charter Township of Georgetown.
| At the divergence from Bliss Creek Intercounty Drain | +633
Buttermilk Creek | Approximately 680 feet downstream of Oak Street | +618 | City of Hudsonville, Charter Township of Jamestown.
| Approximately 155 feet upstream of Quincy Street | +685
Castle Creek | At the confluence with the Grand River | +595 | Charter Township of Polkton.
| Approximately 0.6 mile upstream of Leonard Street | +595
County Drain No. 15 & 17 | At the confluence with County Drain No. 8, North Holland Drain, and County Drain No. 40 | +611 | Charter Township of Holland.
| Approximately 1,520 feet upstream of Riley Street | +619
County Drain No. 28 | At the confluence with County Drain No. 40 and Windmill Creek | +593 | Charter Township of Holland.
| Approximately 125 feet upstream of James Street | +607
County Drain No. 4 & 43 | At the confluence with Noordeloos Creek | +597 | Charter Township of Holland.
| Approximately 0.4 mile upstream of 104th Avenue | +597
County Drain No. 40 | At the confluence with County Drain No. 28 and Windmill Creek | +593 | Charter Township of Holland.
| At the confluence with County Drain No. 8, North Holland Drain, and County Drain No. 15 & 17 | +611
County Drain No. 8 and North Holland Drain | At the confluence with County Drain No. 15 & 17 and County Drain No. 40 | +611 | Charter Township of Holland.
| Approximately 130 feet upstream of Quincy Street | +625
Crockery Creek | At the confluence with the Grand River | +591 | Township of Crockery.
| At the upstream side of Fitzgerald Street | +591
DeWeerd Drain | At the confluence with Rush Creek | +610 | Charter Township of Georgetown, City of Hudsonville, Charter Township of Jamestown.
| Approximately 570 feet upstream of I-196 North | +661
Deer Creek | At the upstream side of I-96 West | +614 | Charter Township of Polkton.
Deer Creek | At the confluence with the Grand River | +597 | Charter Township of Polkton, Charter Township of Tallmadge.
| Approximately 1 mile upstream of Leonard Street | +597
Deer Creek of Crockery | At the confluence with Bruces Bayou | +589 | Township of Crockery.
| At the downstream side of Leonard Road | +589
East Georgetown Shores Lake | Entire shoreline | +609 | Charter Township of Georgetown.
Fort Village Creek | At the confluence with Crockery Creek | +591 | Township of Crockery.
| Approximately 1,300 feet downstream of 104th Avenue | +591
Grand River | Approximately 0.6 mile upstream of the confluence with Mill House Bayou | +588 | Charter Township of Allendale, Charter Township of Polkton, Township of Crockery, Township of Robinson, Charter Township of Tallmadge.
| Approximately 350 feet upstream of Lake Michigan Drive | +600
Huizenga Intercounty Drain | At the confluence with Rush Creek | +606 | Charter Township of Georgetown.
| At the downstream side of Kenowa Avenue Southwest | +616
Knight Intercounty Drain | At the confluence with Bliss Creek Intercounty Drain | +646 | Charter Township of Georgetown, Charter Township of Jamestown.
| At the downstream side of Kenowa Avenue Southwest | +651
Little Robinson Bayou | At the confluence with the Grand River | +588 | Township of Robinson.
| At the downstream side of 128th Avenue | +588
Macatawa River/Black Creek of Zeeland Drain | Approximately 0.8 mile upstream of River Avenue | +584 | Charter Township of Holland, Charter Township of Zeeland, City of Holland.
| Approximately 400 feet upstream of Felch Street | +607
Meadowbrook Drain | At the confluence with Bliss Creek Intercounty Drain | +616 | Charter Township of Georgetown.
| Approximately 620 feet upstream of 8th Avenue | +618
Miller I.C. | At the confluence with Bliss Creek Intercounty Drain and Knight Intercounty Drain | +646 | Charter Township of Georgetown, Charter Township of Jamestown.
| Approximately 600 feet downstream of Ransom Street Southwest | +650
Morning Dew Lake | Entire shoreline | +610 | Charter Township of Holland.
Noordeloos Creek | At the confluence with Black Creek of Zeeland Drain | +597 | City of Holland, City of Zeeland, Charter Township of Holland.
| At the downstream side of PawPaw Road | +600
Northwest Branch of Rush Creek | At the upstream side of 40th Avenue | +615 | Charter Township of Georgetown.
| At the downstream side of 48th Avenue | +635
Ottawa Creek & Ext. Drain/Ottawa Creek/Curry Drain | At the confluence with the Grand River | +599 | Charter Township of Allendale.
| Approximately 125 feet downstream of 40th Avenue | +599
Rush Creek | At the upstream side of Main Street | +606 | Charter Township of Georgetown, City of Hudsonville.
| At the downstream side of 40th Avenue | +615
South Branch | At the confluence with Black Creek of Zeeland Drain | +602 | Charter Township of Zeeland.
| Approximately 0.6 mile downstream of Lizbeth Drive | +602
Sterns Bayou and Sterns Creek | At the downstream corporate limits of the Township of Robinson | +588 | Township of Robinson.
| At the downstream side of Ferris Street | +588
Traders Creek | At the confluence with the Grand River | +597 | Charter Township of Allendale.
| Approximately 830 feet downstream of 60th Avenue | +597
Trout Drain | At the confluence with DeWeerd Drain | +612 | Charter Township of Georgetown, City of Hudsonville.
| Approximately 315 feet west of 22nd Avenue | +623
Tulip Intercounty Drain | At the confluence with Black Creek of Zeeland Drain | +597 | Charter Township of Holland.
| Approximately 0.4 mile upstream of Adams Street | +597
Unnamed Tributary 1 to Buttermilk Creek | At the confluence with Buttermilk Creek | +651 | City of Hudsonville.
| Approximately 105 feet upstream of I-196 North | +670
Unnamed Tributary 1 to Crockery Creek | At the confluence with Crockery Creek | +591 | Township of Crockery.
| Approximately 850 feet downstream of Leonard Street | +591
Unnamed Tributary 1 to Grand River | At the confluence with the Grand River | +594 | Charter Township of Polkton.
| Approximately 1,900 feet upstream of the confluence with the Grand River | +594
Unnamed Tributary 2 to Buttermilk Creek | At the confluence with Buttermilk Creek | +673 | Charter Township of Jamestown.
| Approximately 100 feet downstream of Quincy Street | +702
Unnamed Tributary 2 to Crockery Creek | At the confluence with Crockery Creek | +591 | Township of Crockery.
| At the downstream side of I-96 East | +591
Unnamed Tributary 2 to Grand River | At the confluence with the Grand River | +596 | Charter Township of Polkton.
| Approximately 780 feet upstream of Leonard Street | +596
Unnamed Tributary 3 to Crockery Creek | At the confluence with Crockery Creek | +591 | Township of Crockery.
| At the downstream side of 104th Avenue | +591
Unnamed Tributary 3 to Grand River | At the confluence with the Grand River | +596 | Charter Township of Polkton.
| Approximately 930 feet upstream of Leonard Street | +596
Unnamed Tributary 4 to Crockery Creek | At the confluence with Crockery Creek | +591 | Township of Crockery.
| Approximately 850 feet downstream of Fitzgerald Street | +591
Unnamed Tributary 4 to Grand River | At the confluence with the Grand River | +596 | Charter Township of Polkton.
| Approximately 1,400 feet upstream of Leonard Street | +596
Unnamed Tributary to Bark Creek | At the confluence with Bark Creek | +590 | Township of Crockery.
| At the downstream side of Leonard Road | +590
Unnamed Tributary of Bruces Bayou | At the confluence with Bruces Bayou | +589 | Township of Crockery.
| Approximately 0.5 mile upstream of the confluence with Bruces Bayou | +589
Unnamed Tributary to Castle Creek | At the confluence with Castle Creek | +595 | Charter Township of Polkton.
| Approximately 1,200 feet upstream of the confluence with Castle Creek | +595
Vans Bypass | At the confluence with Bareman Drain | +618 | Charter Township of Holland.
| At the divergence from County Drain No. 15 & 17 | +619
West Georgetown Shores Lake | Entire shoreline | +609 | Charter Township of Georgetown.
Windmill Creek | At the confluence with Macatawa River | +593 | Charter Township of Holland.
| At the confluence with County Drain No. 28 and County Drain No. 40 | +593
* National Geodetic Vertical Datum.
+ North American Vertical Datum.
# Depth in feet above ground.
‸ Mean Sea Level, rounded to the nearest 0.1 meter.
ADDRESSES
Charter Township of Allendale
Maps are available for inspection at 6676 Lake Michigan Drive, Allendale, MI 49401.
Charter Township of Georgetown
Maps are available for inspection at 1515 Baldwin Street, Jenison, MI 49429.
Charter Township of Holland
Maps are available for inspection at 353 North 120th Avenue, Holland, MI 49422.
Charter Township of Jamestown
Maps are available for inspection at 2380 Riley Street, Jamestown, MI 49427.
Charter Township of Polkton
Maps are available for inspection at 6900 Arthur Street West, Coopersville, MI 49404.
Charter Township of Tallmadge
Maps are available for inspection at O-1451 Leonard Street Northwest, Grand Rapids, MI 49534.
Charter Township of Zeeland
Maps are available for inspection at 6582 Byron Road, Zeeland, MI 49464.
City of Holland
Maps are available for inspection at 270 River Avenue, Holland, MI 49423.
City of Hudsonville
Maps are available for inspection at 3275 Central Boulevard, Hudsonville, MI 49426.
City of Zeeland
Maps are available for inspection at 21 South Elm Street, Zeeland, MI 49464.
Township of Crockery
Maps are available for inspection at 17431 112th Avenue, Nunica, MI 49448.
Township of Robinson
Maps are available for inspection at 12010 120th Avenue, Grand Haven, MI 49417.
Perry County, Mississippi, and Incorporated Areas
Docket No.: FEMA-B-1148
Leaf River | Approximately 0.6 mile downstream of State Highway 15 | +89 | Unincorporated Areas of Perry County.
| Approximately 0.5 mile upstream of State Highway 15 | +91
* National Geodetic Vertical Datum.
+ North American Vertical Datum.
# Depth in feet above ground.
‸ Mean Sea Level, rounded to the nearest 0.1 meter.
ADDRESSES
Unincorporated Areas of Perry County
Maps are available for inspection at the Perry County Courthouse, 103 1st Street, New Augusta, MS 39462.
Bayfield County, Wisconsin, and Incorporated Areas
Docket No.: FEMA-B-1153
Lake Superior | Entire shoreline within community | +605 | City of Bayfield, City of Washburn, Red Cliff Band of Lake Superior Chippewa, Unincorporated Areas of Bayfield County.
Lower Eau Claire Lake | Entire shoreline within community | +1124 | Unincorporated Areas of Bayfield County.
Middle Eau Claire Lake | Entire shoreline within community | +1128 | Unincorporated Areas of Bayfield County.
Namekagon Lake | Entire shoreline within community | +1398 | Unincorporated Areas of Bayfield County.
Upper Eau Claire Lake | Entire shoreline within community | +1137 | Unincorporated Areas of Bayfield County.
* National Geodetic Vertical Datum.
+ North American Vertical Datum.
# Depth in feet above ground.
‸ Mean Sea Level, rounded to the nearest 0.1 meter.
ADDRESSES
City of Bayfield
Maps are available for inspection at 125 South 1st Street, Bayfield, WI 54814.
City of Washburn
Maps are available for inspection at 119 Washington Avenue, Washburn, WI 54891.
Red Cliff Band of Lake Superior Chippewa
Maps are available for inspection at 88385 State Highway 13, Bayfield, WI 54814.
Unincorporated Areas of Bayfield County
Maps are available for inspection at 117 East 5th Street, Washburn, WI 54891.
Forest County, Wisconsin, and Incorporated Areas
Docket No.: FEMA-B-1155
Metonga Lake | Entire shoreline within community | +1599 | Unincorporated Areas of Forest County.
Peshtigo Lake | Entire shoreline within community | +1591 | Unincorporated Areas of Forest County.
Roberts Lake | Entire shoreline within community | +1594 | Unincorporated Areas of Forest County.
* National Geodetic Vertical Datum.
+ North American Vertical Datum.
# Depth in feet above ground.
‸ Mean Sea Level, rounded to the nearest 0.1 meter.
ADDRESSES
Unincorporated Areas of Forest County
Maps are available for inspection at 200 East Madison Avenue, Crandon, WI 54520.

(Catalog of Federal Domestic Assistance No. 97.022, “Flood Insurance.”)

Dated: November 18, 2011.
Sandra K. Knight,
Deputy Federal Insurance and Mitigation Administrator, Mitigation, Department of Homeland Security, Federal Emergency Management Agency.

[FR Doc. 2011-31280 Filed 12-5-11; 8:45 am]

BILLING CODE 9110-12-P